NATIONAL SCIENCE FOUNDATION

Special Emphasis Panel in Materials Research; Notice of Meetings

In accordance with the Federal Advisory Committee (Pub. L. 92-463 as amended), the National Science Foundation announces the following meetings:

Name: Special Emphasis Panel in Materials Research (DMR) #1203

Dates & Times:

Date | Room No. | Time
May 9-11, 2000 | 390 (5/9): 375 (5/10, 11) | 7:30 A.M.-10:00 P.M.
May 16-18, 2000 | 375 | 7:30 A.M.-10:00 P.M.
May 23-25, 2000 | 375 | 7:30 A.M.-10:00 P.M.
May 31-June 2, 2000 | 1060 (5/31): 1020 (6/1, 2) | 7:30 A.M.-10:00 P.M.
June 13-14, 2000 | 365 (6/13): 380 (6/14) | 8:30 A.M.-6:00 P.M.

Place: National Science Foundation, 4201 Wilson Blvd., Arlington, VA 22230.

Type of Meeting: Closed.

Contact Persons: Dr. Ulrich Strom, Program Director, Materials Research Science and Engineering Centers (MRSEC), Division of Materials Research, Room 1065, National Science Foundation, 4201 Wilson Boulevard, Arlington, VA 22230, Telephone (703) 306-1832.

Purpose of Meeting: To provide advice and recommendations concerning proposals submitted to NSF for financial support. The format is in the form of reverse site visits.

Agenda: Review and evaluate proposals as part of the selection process to determine finalists considered for support for the MRSEC proposals submitted in response to program solicitation number NSF 99-125.

Reason for Closing: The activity being evaluated may include information of a proprietary or confidential nature, including technical information; financial data, such as salaries and personal information concerning individuals associated with the proposals. These matters are exempt under 5 U.S.C. 552b. (c), (4) and (6) of the Government in the Sunshine Act.

Dated: April 19, 2000.
Karen J. York,
Committee Management Officer.

[FR Doc. 00-10127 Filed 4-21-00; 8:45 am]

BILLING CODE 7555-01-M